DEPARTMENT OF TRANSPORTATION

Coast Guard

33 CFR Part 165

[CGD05-00-015]

RIN 2115-AA97

Safety Zone: Atlantic Ocean, Virginia Beach, VA

AGENCY: Coast Guard, DOT.

ACTION: Temporary final rule.

SUMMARY: The Coast Guard is establishing temporary safety zones for the Virginia Beach Fireworks displays, north of the Virginia Beach Fishing Pier, in the Atlantic Ocean. This action will restrict vessel traffic on the Atlantic Ocean within a 2500-foot radius of a fireworks laden barge. The safety zone is necessary to protect mariners and spectators from the hazards associated with the fireworks display.

DATES: This rule is effective from July 9, 2000 through September 9, 2000.

ADDRESSES: Comments and materials received from the public, as well as documents indicated in this preamble as being available in the docket, are part of docket CGD05-00-015 and are available for inspection or copying at the USCG Marine Safety Office, 200 Granby Street, Norfolk, VA between 8 a.m. and 4 p.m., Monday through Friday, except Federal holidays.

FOR FURTHER INFORMATION CONTACT: Chief Petty Officer Roddy Corr, project officer, USCG Marine Safety Office Hampton Roads, telephone number (757) 441-3290.

SUPPLEMENTARY INFORMATION:

Regulatory History

On May 26, 2000, we published a Notice of Proposed Rule Making (NPRM) entitled Safety Zone; Atlantic Ocean, Virginia Beach, VA in the Federal Register (65 FR 34127). We received no letters commenting on the proposed rule. No public hearing was requested and none was held.

Background and Purpose

The city of Virginia Beach is sponsoring several fireworks events from July 9, 2000 through September 9, 2000. The fireworks will be fired from a barge in approximate position 36° 50.75′ N, 076° 58.40′ W, which position is in the vicinity of the Virginia Beach Fishing Pier.

The purpose of these regulations is to promote maritime safety and protect the boating public from the hazards associated with a fireworks display. These regulations will provide a safety buffer around the fireworks laden barge. The regulations will affect the movement of all vessels operating in the specified areas of the Atlantic Ocean.

Public notifications will be made prior to the event via marine information broadcasts.

Discussion of Comments and Changes

We did not receive any comments on the proposed rule. No substantive changes were made to the proposed rule.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT)(44 FR 11040; February 26, l979).

We expect the economic impact of this temporary final rule to be so minimal that a full Regulatory Evaluation under paragraph 10e of the regulatory policies and procedures of DOT is unnecessary. This temporary final rule will only affect a limited area for two hour per event, alternative routes exist for maritime traffic, and advance notification via marine information broadcasts will enable mariners to plan their transit to avoid the safety zones.

Small Entities

Under the Regulatory Flexibility Act (5 U.S.C. 601 et seq.), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to operate or anchor in portions of the Atlantic Ocean off Virginia Beach, Virginia within a 2500-foot radius of a fireworks laden barge located in approximate position 36° 50.75′ N, 076° 58.40′ W.

These safety zones will not have a significant economic impact on a substantial number of small entities for the following reasons: This rule only affects a limited area for two hours per event, alternative routes exist for maritime traffic, and advance notification via marine information broadcasts will enable mariners to plan their transit to avoid entering the safety zones.

Assistance for Small Entities

Under section 213(a) of the Small Business Regulatory Enforcement Fairness Act of 1996 (Public Law 104-121), we offered to assist small entities in understanding the rule so that they can better evaluate its effects on them and participate in the rulemaking process. No requests for assistance in understanding this rule were received.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501 et seq.).

Federalism

We have analyzed this rule under Executive Order 13132 and have determined that this rule does not have implications for federalism under that order.

Unfunded Mandates Reform Act

The Unfunded Mandates Reform Act of 1995 (2 U.S.C. 1531-1538) governs the issuance of federal regulations that require unfunded mandates. An unfunded mandate is a regulation that requires a state, local, or tribal government or the private sector to incur direct costs without the Federal Government's having first provided the funds to pay those unfunded mandate costs. This rule would not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this temporary final rule and concluded that under figure 2-1, paragraph (34)(g), of Commandant Instruction M16475.lC, this rule is categorically excluded from further environmental documentation. A “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—[AMENDED]

1. The authority citation for part 165 continues to read as follows:

Authority: 33 U.S.C. 1231; 50 U.S.C. 191; 33 CFR 1.05-1(g), 6.04-1, 6.04-6, and 160.5; 49 CFR 1.46. Section 165.100 is also issued under authority of Sec. 311, Pub. L. 105-383.

2. Add temporary section 165.T05-015 to read as follows:

§ 165.T05-015 Safety Zone; Atlantic Ocean, Virginia Beach, VA.

(a) Location. The following area is a safety zone: All waters of the Atlantic Ocean within a 2,500-foot radius of a fireworks laden barge in approximate position 36° 50.75′ N, 076° 58.40′ W.

(b) Captain of the Port. Captain of the Port means the Commanding Officer of the Marine Safety Office Hampton Roads, Norfolk, VA or any Coast Guard commissioned, warrant, or petty officer who has been authorized to act on his behalf.

(c) Regulations. (1) All persons are required to comply with the general regulations governing safety zones found in section 165.23 of this part.

(2) Persons or vessels requiring entry into or passage through a safety zone must first request authorization from the Captain of the Port. The Coast Guard representative enforcing the safety zone can be contacted on VHF marine band radio, channels 13 and 16. The Captain of the Port can be contacted at telephone number (757) 484-8192.

(3) The Captain of the Port will notify the public of changes in the status of this safety zone by marine information broadcast on VHF marine band radio, channel 22 (157.1 MHz).

(d) Enforcement Dates. This section will be enforced from 9 p.m. until 11 p.m. on the following dates:

(1) July 9, 2000—rain date July 15, 2000.

(2) July 16, 2000—rain date July 22, 2000.

(3) July 23, 2000—rain date July 29, 2000.

(4) July 30, 2000—rain date August 5, 2000.

(5) August 6, 2000—rain date August 12, 2000.

(6) August 13, 2000—rain date August 19, 2000.

(7) August 20, 2000—rain date August 26, 2000.

(8) August 27, 2000.

(9) September 2, 2000—rain date September 3, 2000.

(10) September 9, 2000.

(e) Effective Date. This section is in effect from July 9, 2000 until September 9, 2000.

Dated: June 6, 2000.
J.E. Schrinner,
Captain, U.S. Coast Guard, Captain of the Port, Hampton Roads.

[FR Doc. 00-15517 Filed 6-19-00; 8:45 am]

BILLING CODE 4910-15-U